DEPARTMENT OF AGRICULTURE

Farm Service Agency

Commodity Credit Corporation

Information Collection Request; Assignment and Joint Payment Elections

AGENCY: Farm Service Agency and Commodity Credit Corporation, USDA.

ACTION: Notice; request for comments.

SUMMARY: In accordance with the Paperwork Reduction Act of 1995, the Commodity Credit Corporation (CCC) and Farm Service Agency (FSA) are requesting comments from all interested individuals and organizations on an extension with a revision of a currently approved information collection associated with various assignment and joint payment forms, including “Assignment of Payment”, “Joint Payment Authorization”, “Notice of Assignment”, and “Instrument of Assignment”. The information on the forms is used by FSA employees in order to record the payment or contract being assigned, the amount of the assignment, the date of the assignment, and the name and address of the assignee and the assignor. This will enable FSA employees to pay the proper party when payment becomes due.

DATES: We will consider comments that we receive by March 30, 2015.

ADDRESSES: We invite you to submit comments on this notice. In your comments, include the date, volume, and page number of this issue of the Federal Register, the OMB control number and the title of the information collection. You may submit comments by any of the following methods:

• Federal eRulemaking Portal: Go to http://www.regulations.gov. Follow the online instructions for submitting comments.

• Mail: Yanira Sanabria, Financial Specialist, USDA, FSA, FMD, STOP 0581, USDA/FSA/FMD, STOP 0581, Patriot Plaza III, 355 E Street SW., Washington, DC 20024-0581.

You may also send comments to the Desk Officer for Agriculture, Office of Information and Regulatory Affairs, Office of Management and Budget, Washington, DC 20503. Copies of the information collection may be requested by contacting Yanira Sanabria at the above address.

FOR FURTHER INFORMATION CONTACT: Yanira Sanabria, (202) 772-6032. Persons with disabilities who require alternative mean for communication (Braille, large print, audio tape, etc.) should contact the USDA's TARGET Center at (202)720-2600 (Voice).

SUPPLEMENTARY INFORMATION: Title: Assignment and Joint Payment Elections.

Forms: CCC-36, “Assignment of Payment”, CCC-37, “Joint Payment Authorization”, CCC-251, “Notice of Assignment”, and CCC-252, “Instrument of Assignment”.

OMB Control Number: 0560-0183.

Expiration Date of Approval: July 31, 2015.

Type of Request: Revision and extension of a currently approved information collection.

Abstract: FSA and CCC are requesting an extension with a revision of the currently approved information collection for Forms CCC-36, “Assignment of Payment”, CCC-37, “Joint Payment Authorization”, CCC-251, “Notice of Assignment”, and CCC-252, “Instrument of Assignment”. The Soil Conservation and Domestic Allotment Act (16 U.S.C. 590h (g)) authorizes producers to assign FSA conservation program payments in accordance with regulations issued by the Secretary. The Assignment of Payments regulation at 7 CFR part 1404 requires that any such assignment be signed by both the assignor and the assignee. The Agricultural Act of 1949, as amended, extends that authority to CCC programs, including rice, feed grains, cotton, and wheat. There are no FSA or CCC regulations governing joint payments, but this service is offered as a result of public requests for this type of payment option, and is authorized by the CCC-37 form.

The burden hours have decreased due to a provision in the 2014 Farm Bill that has exempted some programs from being subject to the Paperwork Reduction Act. In addition, some producers are expected to participate in the certain, new programs authorized by the 2014 Farm Bill: the Agricultural Risk Coverage, Price Loss Coverage, and Dairy Margin Protection Program (DMPP). The CCC-36 and CCC-37 are applicable to certain FSA and CCC programs that permit an assignment.

The formula used to calculate the total burden hour is estimated average time per responses hours times total annual responses.

Estimate of Respondent Burden: Public reporting burden for this collection of information is estimated to average 10 minutes per response for each form of CCC-36, CCC-37, and CCC-251, and 5 minutes per response for CCC-252.

Respondents: Individuals or households, businesses or other for profit farms.

Estimated Annual Number of Respondents: 51,403 for CCC-36; 14,307 for CCC-37, 200 for CCC-251 and 200 for CCC-252.

Estimated Number of Reponses Per Respondent: 1.

Estimated Total Annual Responses: 66,110.

Estimated Average Time per Response: 0.166.

Estimated Total Annual Burden on Respondents: 11,002.

We are requesting comments on all aspects of this information collection to help us to:

(1) Evaluate whether the collection of information is necessary for the proper performance of the functions of the FSA, including whether the information will have practical utility;

(2) Evaluate the accuracy of the FSA's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

Signed on January 23, 2015.
Val Dolcini,
Administrator, Farm Service Agency, and Executive Vice President, Commodity Credit Corporation.

[FR Doc. 2015-01561 Filed 1-27-15; 8:45 am]

BILLING CODE 3410-05-P